DEPARTMENT OF DEFENSE

Office of the Secretary

[Docket ID: DoD-2013-OS-0098]

Privacy Act of 1974; System of Records

AGENCY: Defense Finance and Accounting Service, DoD.

ACTION: Notice to delete two Systems of Records.

SUMMARY: The Defense Finance and Accounting Service is deleting two systems of records notices in its existing inventory of record systems subject to the Privacy Act of 1974 (5 U.S.C. 552a), as amended.

DATES: This proposed action will be effective on June 10, 2013 unless comments are received which result in a contrary determination. Comments will be accepted on or before June 10, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, (317) 510-4591.

SUPPLEMENTARY INFORMATION: The Defense Finance and Accounting Service systems of records notices subject to the Privacy Act of 1974 (5 U.S.C. 552a), as amended, have been published in the Federal Register and are available from the address in FOR FURTHER INFORMATION CONTACT. The proposed deletions are not within the purview of subsection (r) of the Privacy Act of 1974 (5 U.S.C. 552a), as amended, which requires the submission of a new or altered system report.

Dated: May 2, 2013.
Aaron Siegel,
Alternate OSD Federal Register Liaison Officer, Department of Defense.

Deletion:

T-4500

System name:

Defense Transportation Payment System (DTRS) Records (November 12, 2008, 73 FR 66861)

Reason:

System was retired and replaced by T7225a, Computerized Accounts Payable System (CAPS) (November 14, 2007, 72 FR 64057); all records were transferred to CAPS; therefore, T-4500, Defense Transportation Payment System (DTRS) can be deleted.

Deletion:

T4500a

System name:

Defense Transportation Payment System—Accounting (DTRS-A) Records (October 1, 2008, 73 FR 57070)

Reason:

System was retired and replaced by T7225a, Computerized Accounts Payable System (CAPS) (November 14, 2007, 72 FR 64057); all records were transferred to CAPS; therefore, T4500a, Defense Transportation Payment System—Accounting (DTRS-A) Records can be deleted.

[FR Doc. 2013-10985 Filed 5-8-13; 8:45 am]

BILLING CODE 5001-06-P